FEDERAL ELECTION COMMISSION

Sunshine Act Meeting

Date and Time: Tuesday, July 10, 2007 at 10 a.m.

Place: 999 E Street, NW., Washington, DC.

Status: This meeting will be closed to the public.

Items To Be Discussed:

Compliance matters pursuant to 2 U.S.C. 437g.

Audits conducted pursuant to 2 U.S.C. 437g, 438(b), and Title 26, U.S.C.

Matters concerning participation in civil actions or proceedings or arbitration.

Internal personnel rules and procedures or matters affecting a particular employee.

Date and Time: Wednesday, July 11, 2007 at 10 a.m.

Place: 999 E Street, NW., Washington, DC.

Status: This hearing will be open to the public.

Matter Before the Commission: Hybrid Communications.

Date and Time: Thursday, July 12, 2007 at 10 a.m.

Place: 999 E Street, NW., Washington, DC (ninth floor).

Status: This meeting will be open to the public.

Items To Be Discussed: Correction and Approval of Minutes.

Advisory Opinion 2007-08: Michael King by counsel, Marc Elias and Caroline Goodson.

Notice of Proposed Rulemaking—Use of Campaign Funds for Donations to Non-Federal Candidates and Any Other Lawful Purpose Other Than Personal Use.

Report of the Audit Division on Ted Poe for Congress.

Management and Administrative Matters.

Person To Contact for Information: Mr. Robert Biersack, Press Officer, Telephone: (202) 694-1220.

Mary W. Dove,
Secretary of the Commission.

[FR Doc. 07-3313 Filed 7-3-07; 12:27 pm]

BILLING CODE 6715-01-M